DEPARTMENT OF COMMERCE

National Oceanic and Atmospheric Administration

RIN 0648-XW011

Magnuson-Stevens Act Provisions; General Provisions for Domestic Fisheries; Pacific Coast Groundfish Fishery; Application for an Exempted Fishing Permit

AGENCY: National Marine Fisheries Service (NMFS), National Oceanic and Atmospheric Administration (NOAA), Commerce.

ACTION: Notice; request for comments.

SUMMARY: NMFS announces the request for renewal of a 2019 exempted fishing permit application titled, “Year-round Coastwide Midwater Rockfish EFP: Monitoring and Minimizing Salmon Bycatch When Targeting Rockfish in the Shorebased IFQ Fishery” for the 2020 fishing year (herein referred to as the “Trawl Gear EFP”). The application, submitted by the West Coast Seafood Processors Association, Environmental Defense Fund, Oregon Trawl Commission, and Midwater Trawlers Cooperative, requests a permit to test whether removing certain gear, time, and area restrictions for vessels fishing under the Trawl Rationalization Program's Shorebased Individual Fishing Quota Program may impact the nature and extent of bycatch of prohibited species (e.g., Chinook salmon). This exempted fishing permit would allow participating groundfish bottom and midwater trawl vessels more flexibility than allowed in current regulations to target pelagic rockfish species, such as widow, chilipepper, and yellowtail rockfish. Regulations under the Magnuson-Stevens Fishery Conservation and Management Act require publication of this notification to provide interested parties the opportunity to comment on applications for proposed exempted fishing permits.

DATES: Comments must be received no later than 5 p.m., local time on November 6, 2019.

ADDRESSES: You may submit comments on this document, identified by NOAA-NMFS-2019-0119, by any of the following methods:

• Electronic Submissions: Submit all electronic public comments via the Federal e-Rulemaking Portal. Go to www.regulations.gov/#!docketDetail;D=NOAA-NMFS-2019-0119, click the “Comment Now!” icon, complete the required fields, and enter or attach your comments. The EFP application will be available under “Supporting Documents” through the same link.

• Mail: Submit written comments to Lynn Massey, West Coast Region, NMFS, 501 W Ocean Blvd., Ste. 4200, Long Beach, CA 90802-4250.

Instructions: Comments sent by any other method, to any other address or individual, or received after the end of the comment period, may not be considered by NMFS. All comments received are a part of the public record and would generally be posted for public viewing on www.regulations.gov without change. All personal identifying information (e.g., name, address, etc.), confidential business information, or otherwise sensitive information submitted voluntarily by the sender would be publicly accessible. NMFS would accept anonymous comments (enter “N/A” in the required fields if you wish to remain anonymous). Attachments to electronic comments would be accepted in Microsoft Word, Excel, or Adobe PDF file formats only.

FOR FURTHER INFORMATION CONTACT: Lynn Massey, West Coast Region, NMFS, at (562) 436-2462, lynn.massey@noaa.gov.

SUPPLEMENTARY INFORMATION: This action is authorized by the Pacific Coast Groundfish Fishery Management Plan (FMP) and implementing regulations at 50 CFR 600.745, which allow NMFS Regional Administrators to authorize exempted fishing permits (EFPs) to test fishing activities that would otherwise be prohibited.

At the September 2018 Pacific Fishery Management Council (Council) meeting, the Council voted to recommend the 2019 Trawl Gear EFP project to NMFS, and made the preliminary decision to recommend continuing the EFP project in 2020. NMFS published a description of the 2019 Trawl Gear EFP in the Federal Register on November 30, 2018 (83 FR 61603), and solicited public comments through December 17, 2018. NMFS issued a total of 46 EFPs to eligible vessels for the 2019 fishing year. As of September 30, 2019, 15 vessels have participated in the Trawl Gear EFP during the 2019 fishing year (7 vessels fished midwater only, 2 fished bottom trawl only, and 6 fished using both gear types). These vessels have caught 46 Chinook salmon, no eulachon, sturgeon, or Coho salmon, and approximately 13.7 million pounds of groundfish, totaling approximately $4.8 million in revenue.

At the September 2019 Council meeting, the EFP applicants requested renewal of the 2019 Trawl Gear EFP (described in additional detail at 83 FR 61603, November 30, 2019) with no changes for the 2020 fishing year. The same bycatch limits for Chinook salmon recommended by the Council in 2019 would be maintained during the 2020 fishing year (i.e., 1,000 fish for Chinook salmon taken north of 42 degrees North latitude (N. lat.) and 100 fish for Chinook salmon taken south of 42 degrees N. lat).

The EFP applicants have not proposed a specific list of participating vessels, but rather are proposing that NMFS publish a public notice to gauge interest from limited entry groundfish midwater and bottom trawl vessels. Depending on the amount of interest and where vessels indicate interest in fishing, NMFS may need to limit participation by time and area to mitigate potential impacts.

After publication of this document in the Federal Register, NMFS may approve and issue the EFP after the close of the public comment period. NMFS will consider comments submitted, as well as the Council's discussion at their September 2019 meeting, in deciding whether to approve the application as requested. NMFS may approve the application in its entirety or may make any alterations needed to achieve the goals of the EFP.

Authority: 16 U.S.C. 1801 et seq., 16 U.S.C. 773 et seq., and 16 U.S.C. 7001 et seq.

Dated: October 17, 2019.
Jennifer M. Wallace,
Acting Director, Office of Sustainable Fisheries, National Marine Fisheries Service.

[FR Doc. 2019-22977 Filed 10-21-19; 8:45 am]

BILLING CODE 3510-22-P